DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Elizabeth Goodwin, PhD, University of Wisconsin-Madison: Based on the report of an investigation conducted by the University of Wisconsin-Madison (UW-M) and additional analysis conducted by ORI in its oversight review, the U.S. Public Health Service (PHS) found that Elizabeth Goodwin, PhD, former associate professor of genetics and medical genetics, UW-M, engaged in scientific misconduct while her research was supported by National Institute of General Medical Sciences (NIGMS), National Institutes of Health (NIH), grants R01 GM051836 and R01 GM073183.

PHS found that the Respondent engaged in misconduct in science by falsifying and fabricating data that she included in grant applications 2 R01 GM051836-13 and 1 R01 GM073183-01.

PHS found that in grant application 2 R01 GM051836-13, Respondent knowingly and intentionally:

• Falsified Figures 5A and 5B by reusing figures from two of her earlier published papers and falsely labeling them to claim results that had not been achieved in her laboratory.

• Falsified Figure 7B by reusing a figure from one of her published papers and both relabeling it to claim she had detected the STAR-2 protein rather than the TRA-l protein actually detected and modifying the image in the application to disguise its origin.

• Falsified Figure 8C by using a figure produced by one of her students and relabeled it to show that RNAi treatment of C. elegans led to increased expression of the TRA-2 protein when this result had not been obtained by the student.

• Falsified the table on Page 20 of the application showing phenotypic frequencies of worms expressing star-2 (ok483) mutants by significantly overstating the level of aberrant phenotypes and fabricating certain categories of phenotypes not seen by the student conducting the research.

PHS finds that in grant application 1 R01 GM073183-01, Dr. Goodwin knowingly and intentionally:

• Falsified Figure 5 because she used the same two lanes in both Figure 5 and Figure 7, although they were flipped horizontally in one of the figures to disguise their reuse. In Figure 7, the lanes illustrated an effect on laf-1 during developmental stages of C. elegans, and in Figure 5, the same lanes purportedly illustrated an effect on laf-1 noncoding RNA. A witness testified that the result in Figure 5 had not been observed, while that in Figure 7 had, indicating that the claims for Figure 5 were falsified.

• Falsified Figure 8 by reusing photographs prepared by a student that identified the location of rRas-l expression in adult worms and claiming instead that the images illustrated the location of laf-1 mRNA. The images had been enlarged and cropped to disguise their location.

Dr. Goodwin has entered into a Voluntary Exclusion Agreement in which she has voluntarily agreed, for a period of three (3) years, beginning on July 22, 2010:

(1) To exclude herself from any contracting or subcontracting with any agency of the U.S. Government and from eligibility for, or involvement in, nonprocurement programs of the U.S. Government referred to as “covered transactions” pursuant to the HHS Implementation of OMB Guidelines to Agencies on Governmentwide Debarment and Suspension at 2 CFR 376, et seq.; and

(2) To exclude herself from serving in any advisory capacity to PHS, including but not limited to service on any PHS advisory committee, board, and/or peer review committee, or as a consultant.

This Agreement is entered into pursuant to the terms of a plea agreement by and between the Respondent and the United States Attorney for the Western District of Wisconsin.

FOR FURTHER INFORMATION CONTACT: Director, Division of Investigative Oversight, Office of Research Integrity, 1101 Wootton Parkway, Suite 750, Rockville, MD 20852, (240) 453-8800.

John Dahlberg,
Director, Division of Investigative Oversight, Office of Research Integrity.

[FR Doc. 2010-21048 Filed 8-24-10; 8:45 am]

BILLING CODE 4150-31-P